DEPARTMENT OF HOMELAND SECURITY

Coast Guard

33 CFR Part 165

[Docket No. USCG-2023-0320]

Safety Zone; Providence Fireworks, Providence, RI

AGENCY: Coast Guard, DHS.

ACTION: Notification of enforcement of regulation.

SUMMARY: The Coast Guard will enforce the safety zone for the Providence Fireworks on July 2, 2023, to provide for the safety of life on navigable waterways. Our regulations for safety zones for annually recurring marine events held in Coast Guard Southeastern New England Captain of the Port Zone identify the regulated area for this event. During the enforcement periods, the operator of any vessel in the regulated area must comply with directions from the Patrol Commander or any Official Patrol displaying a Coast Guard ensign.

DATES: The regulations in 33 CFR 165.173 will be enforced from 9 p.m. until 9:30 p.m. on July 2, 2023.

FOR FURTHER INFORMATION CONTACT: If you have questions about this notification of enforcement, call or email MST2 Christopher Matthews, Waterways Management Division, Sector Southeastern New England, U.S. Coast Guard; telephone 401-435-2348, email Christopher.S.Matthews@uscg.mil.

SUPPLEMENTARY INFORMATION: The Coast Guard will enforce the safety zone listed in 33 CFR 165.173 for the Providence Fireworks regulated area from 9 p.m. to 9:30 p.m. on July 2, 2023. This action is being taken to provide for the safety of life on navigable waterways during this one-day event, which will feature live fireworks. The regulation for marine events within the First Coast Guard District, § 165.173, specifies the location of the regulated area for the Providence Fireworks which encompasses portions of the Providence River. During the enforcement period, vessels in the regulated area must comply with directions from the Patrol Commander or any Official Patrol displaying a Coast Guard ensign.

In addition to this notification of enforcement in the Federal Register, the Coast Guard plans to provide notification of this enforcement period via the Local Notice to Mariners and marine information broadcasts.

Dated: May 11, 2023.
C.J. Prindle,
Captain, U.S. Coast Guard, Captain of the Port Sector Southeastern New England.

[FR Doc. 2023-10429 Filed 5-15-23; 8:45 am]

BILLING CODE 9110-04-P